DEPARTMENT OF TRANSPORTATION

Federal Aviation Administration

14 CFR Part 39

[Docket No. FAA-2012-0039; Directorate Identifier 2011-NM-144-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for certain Fokker Services B.V. Model F.28 Mark 0070 and 0100 airplanes. This proposed AD was prompted by reports of cracks underneath the passenger door in a butt-joint on the forward fuselage of an F.28 Mark 0100 airplane. This proposed AD would require repetitive low frequency eddy current inspections of the forward fuselage butt-joints for cracks, and if necessary, a temporary repair followed by a permanent repair. We are proposing this AD to detect and correct cracks on the butt-joint on the forward fuselage, which could result in explosive decompression and consequent loss of control of the airplane.

DATES: We must receive comments on this proposed AD by March 22, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2012-0039; Directorate Identifier 2011-NM-144-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0115, dated June 17, 2011 (referred to after this as “the MCAI”), to correct an unsafe condition for the specified products. The MCAI states:

A report has been received of a crack, detected in a butt-joint on the forward fuselage of an F28 Mark 0100 aeroplane, underneath the passenger door.

Investigations revealed that, depending on the configuration of the aeroplane, one or two butt-joints in the forward fuselage can be affected.

This condition, if not detected and corrected, could lead to explosive decompression and consequent loss of the aeroplane.

For the reasons described above, this [EASA] AD requires repetitive [low frequency eddy current] inspections of the forward fuselage butt joints for cracks and, when a crack is detected, accomplishment of a temporary repair. This [EASA] AD also requires reporting any cracks found to Fokker Services to enable the development of a modification and the determination of an interval for a repetitive inspection task, to be incorporated in the ALI [airworthiness limitations instructions] section of the MRB [maintenance review board] document. This [EASA] AD is considered to be an interim measure and further AD action is likely.

Required actions include a permanent repair of the forward fuselage butt-joints. You may obtain further information by examining the MCAI in the AD docket.

Relevant Service Information

Fokker Services B.V. has issued Service Bulletin SBF100-53-115, dated June 16, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

Paragraph (2) of EASA AD 2011-0115, dated June 17, 2011, explains that an optional alternative method for the inspection required by paragraph (g) of this proposed AD may be used. This AD does not include that optional alternative method, as the service information in this AD does not provide enough detail regarding this method.

EASA AD 2011-0115, dated June 17, 2011, does not include a permanent repair. This proposed AD does require a permanent repair.

Costs of Compliance

Based on the service information, we estimate that this proposed AD would affect about 4 products of U.S. registry. We also estimate that it would take about 3 work-hours per product to comply with the basic requirements of this proposed AD. The average labor rate is $85 per work-hour. Based on these figures, we estimate the cost of the proposed AD on U.S. operators to be $1,020, or $255 per product.

In addition, we estimate that any necessary follow-on actions would take about 40 work-hours and require parts costing $0, for a cost of $3,400 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2012-0039; Directorate Identifier 2011-NM-144-AD.

(a) Comments Due Date

We must receive comments by March 22, 2012.

(b) Affected ADs

None.

(c) Applicability

This AD applies to Fokker Services B.V. Model F.28 Mark 0070 and 0100 airplanes, as identified in Fokker Service Bulletin SBF100-53-115, dated June 16, 2011.

(d) Subject

Air Transport Association (ATA) of America Code 53: Fuselage.

(e) Reason

This AD was prompted by reports of cracks underneath the passenger door in a butt-joint on the forward fuselage of an F.28 Mark 0100 airplane. We are issuing this AD to detect and correct cracks on the butt-joint on the forward fuselage, which could result in explosive decompression and consequent loss of control of the airplane.

(f) Compliance

You are responsible for having the actions required by this AD performed within the compliance times specified, unless the actions have already been done.

(g) Inspection

Before the accumulation of 20,000 total flight cycles, or within 180 flight cycles after the effective date of this AD, whichever occurs later, do a low frequency eddy current inspection of the forward fuselage butt-joints for cracks, in accordance with the Accomplishment Instructions of Fokker Service Bulletin SBF100-53-115, dated June 16, 2011. Repeat the inspection thereafter at intervals not to exceed 1,000 flight cycles. Doing the temporary repair in paragraph (h) of this AD is terminating action for the repetitive inspections required by this paragraph. The temporary repair can also be accomplished if no cracking is found.

(h) Temporary Repair

If any cracking is found during any inspection required by paragraph (g) of this AD, before further flight, do a temporary repair, in accordance with the Accomplishment Instructions of Fokker Service Bulletin SBF100-53-115, dated June 16, 2011. Doing the temporary repair is terminating action for the repetitive inspections required by paragraph (g) of this AD.

(i) Permanent Repair

Within 10,000 flight cycles after installing the temporary repair as required by paragraph (h) of this AD, install a permanent repair using a method approved by the Manager, International Branch, ANM 116, Transport Airplane Directorate, FAA.

(j) Reporting

Submit a report of the findings (both positive and negative), to Fokker Services B.V., Technical Services Dept., P.O. Box 231, 2150 AE Nieuw-Vennep, the Netherlands, using the reports form of Fokker Service Bulletin SBF100-53-115, dated June 16, 2011, of the inspection required by paragraph (g) of this AD, at the applicable time specified in paragraph (j)(1) or (j)(2) of this AD.

(1) If the inspection was done on or after the effective date of this AD: Submit the report within 30 days after the inspection.

(2) If the inspection was done before the effective date of this AD: Submit the report within 30 days after the effective date of this AD.

(k) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to MCAI European Aviation Safety Agency Airworthiness Directive 2011-0115, dated June 17, 2011; and Fokker Service Bulletin SBF100-53-115, dated June 16, 2011; for related information.

Issued in Renton, Washington, on January 12, 2012.
Michael J. Kaszycki,
Acting Manager, Transport Airplane Directorate, Aircraft Certification Service.

[FR Doc. 2012-2618 Filed 2-3-12; 8:45 am]

BILLING CODE 4910-13-P